DEPARTMENT OF TRANSPORTATION

Federal Railroad Administration

[Docket Number FRA-2006-24774]

Petition for Waiver of Compliance

Under Part 211 of Title 49 of the Code of Federal Regulations (CFR), this document provides the public notice that on April 25, 2017, the Minnesota Transportation Museum (MTM) requested renewal of a waiver of compliance from certain provisions of 49 CFR part 232, Brake System Safety Standards for Freight and Other Non-Passenger Trains and Equipment.

Specifically, MTM requests relief from part 232, Appendix B, § 232.17(b)(2) for passenger car maintenance requirements. MTM is a non-profit corporation that operates historic and educational excursion trains as the Osceola and St. Croix Valley Railway between Dresser, Wisconsin and Withrow, Minnesota, a distance of 25 miles, over Canadian National track. Operation of this train is from mid-April to the end of October primarily on weekends with occasional mid-week special event trains for approximately 70 operating days. MTM currently operates six coaches equipped with either LN, UC or D-22 type brakes that require a clean, oil, test, and stencil (COT&S) servicing, as prescribed in the Manual of Standards and Recommended Practices of the Association of American Railroads, S-4045, Passenger Equipment Maintenance Requirements, last published in 2013.

MTM requests a renewal of relief for the COT&S intervals for the coaches with the UC and LN type brake valves. MTM asserts that it has been performing the COT&S servicing at 24-month intervals instead of the 15-month intervals prescribed in part 232, Appendix B, § 232.17(b)(2) with no decrease to public safety.

A copy of the petition, as well as any written communications concerning the petition, is available for review online at www.regulations.gov and in person at the Department of Transportation's Docket Operations Facility, 1200 New Jersey Ave. SE., W12-140, Washington, DC 20590. The Docket Operations Facility is open from 9 a.m. to 5 p.m., Monday through Friday, except Federal holidays.

Interested parties are invited to participate in these proceedings by submitting written views, data, or comments. FRA does not anticipate scheduling a public hearing in connection with these proceedings since the facts do not appear to warrant a hearing. If any interested parties desire an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal holidays.

Communications received by October 5, 2017 will be considered by FRA before final action is taken. Comments received after that date will be considered if practicable.

Anyone can search the electronic form of any written communications and comments received into any of our dockets by the name of the individual submitting the comment (or signing the document, if submitted on behalf of an association, business, labor union, etc.). Under 5 U.S.C. 553(c), DOT solicits comments from the public to better inform its processes. DOT posts these comments, without edit, including any personal information the commenter provides, to www.regulations.gov, as described in the system of records notice (DOT/ALL-14 FDMS), which can be reviewed at https://www.transportation.gov/privacy. See also https://www.regulations.gov/privacyNotice for the privacy notice of regulations.gov.

Issued in Washington, DC on August 11, 2017.
John Karl Alexy,
Director, Office of Safety Analysis.

[FR Doc. 2017-17585 Filed 8-18-17; 8:45 am]

BILLING CODE 4910-06-P